DEPARTMENT OF TRANSPORTATION

Federal Railroad Administration

[Docket Number FRA-2012-0056]

Petition for Waiver of Compliance

In accordance with Part 211 of Title 49 Code of Federal Regulations (CFR), this document provides the public notice that by a document dated June 27, 2012, New Jersey Transit (NJT) has petitioned the Federal Railroad Administration (FRA) for a waiver of compliance from certain provisions of the Federal railroad safety regulations contained at 49 CFR 242.403(b), (c)(1)-(3), (d), (e)(1)-(4), (e)(6)-(11), (e)(13) and f(1)-(2). FRA assigned the petition Docket Number FRA-2012-0056.

NJT is filing this request for extension in order to continue its participation in the Confidential Close Call Reporting System (C3RS) Demonstration Pilot Project. NJT and the employees of all NJT-owned and/or -operated territory, including the Southern Tier and Pascack Valley Line (excluding Conrail and Amtrak territories not covered by C3RS), represented by the Brotherhood of Locomotive Engineers and Trainmen, the United Transportation Union, and the American Train Dispatchers Association, are participating in the C3RS Demonstration Pilot Project sponsored by FRA's Offices of Safety and Railroad Policy and Development. The C3RS Demonstration Pilot Project for NJT was initially approved by FRA on November 18, 2009. In Docket Number FRA-2009-0096, NJT requested and received a waiver from compliance of certain provisions of 49 CFR Part 240, which governs the certification of locomotive engineers to support the C3RS Demonstration Pilot Project. NJT, BLET, and UTU now desire to have a similar waiver from certain conductor certification requirements found at 49 CFR part 242 in order to shield the reporting employees and the railroad from punitive sanctions that would otherwise arise. A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays. If you do not have access to the Internet, please contact FRA's Docket Clerk at 202-493-6030, who will provide necessary information concerning the contents of the petition.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received within November 16, 2012 of the date of this notice will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78), or online at http://www.dot.gov/privacy.html.

Issued in Washington, DC, on September 25, 2012.
Ron Hynes,
Director, Office of Safety Assurance and Compliance.

[FR Doc. 2012-24219 Filed 10-1-12; 8:45 am]

BILLING CODE 4910-06-P